OVERSEAS PRIVATE INVESTMENT CORPORATION

Submission for OMB Review; Comments Request

AGENCY: Overseas Private Investment Corporation (OPIC).

ACTION: Notice and request for comments.

SUMMARY: Under the provisions of the Paperwork Reduction Act, agencies are required to publish a Notice in the Federal Register notifying the public that the agency is renewing an existing form for information collection for OMB review and approval and requests public review and comment on the submission. OPIC received comments in response to the sixty (60) day notice and, pursuant to those comments, amended the instructions to OPIC-52 filers regarding the information to be provided in supporting documentation. The purpose of this notice is to allow an additional thirty (30) days for public comments to be submitted. Comments are being solicited on the need for the information; the accuracy of OPIC's burden estimate; the quality, practical utility, and clarity of the information to be collected; and ways to minimize reporting the burden, including automated collected techniques and uses of other forms of technology.

DATES: Comments must be received within thirty (30) calendar days of publication of this notice.

ADDRESSES: Mail all comments and requests for copies of the subject form to OPIC's Agency Submitting Officer: James Bobbitt, Overseas Private Investment Corporation, 1100 New York Avenue NW, Washington, DC 20527. See SUPPLEMENTARY INFORMATION for other information about filing.

FOR FURTHER INFORMATION CONTACT: OPIC Agency Submitting Officer: James Bobbitt, (202) 336-8558.

SUPPLEMENTARY INFORMATION: OPIC received comments in response to the sixty (60) day notice published in Federal Register, volume 83, page 9879 on March 8, 2018 and, pursuant to those comments, amended the instructions to OPIC-52 filers regarding the information to be provided in supporting documentation. All mailed comments and requests for copies of the subject form should include form number OPIC-52 on both the envelope and in the subject line of the letter. Electronic comments and requests for copies of the subject form may be sent to James.Bobbitt@opic.gov, subject line OPIC-52.

Summary Form Under Review

Type of Request: Revision of a currently approved information collection.

Title: Application for Political Risk Insurance.

Form Number: OPIC-52.

Frequency of Use: One per investor per project.

Type of Respondents: Business or other institution (except farms); individuals.

Standard Industrial Classification Codes: All.

Description of Affected Public: U.S. companies or citizens investing overseas.

Reporting Hours: 135 (3 hours per form * 45 forms per year).

Number of Responses: 45 per year.

Federal Cost: $4,941.90 (2 hours per form * 45 forms per year * $54.91 (GS-14/1 DCB)).

Authority for Information Collection: Sections 231, 234(a), 239 (d), and 240A of the Foreign Assistance Act of 1961, as amended.

Abstract (Needs and Uses): The application is the principal document used by OPIC to determine investor and project eligibility for political risk insurance and to collect information for underwriting analysis.

Dated: May 22, 2018.
Nichole Skoyles,
Administrative Counsel, Department of Legal Affairs.

[FR Doc. 2018-11351 Filed 5-25-18; 8:45 am]

BILLING CODE 3210-01-P